DEPARTMENT OF ENERGY

Federal Energy Regulatory Commission

[Docket Nos. CP04-47-001; CP05-396-001]

Sabine Pass LNG, L.P.; Notice of Intent To Prepare an Environmental Assessment for the Proposed Sabine Pass LNG Export Project and Request for Comments on Environmental Issues

November 21, 2008.

The staff of the Federal Energy Regulatory Commission (FERC or Commission) will prepare an environmental assessment (EA) that will address the environmental impacts of the Sabine Pass LNG Export Project (Sabine Export Project or Project) proposed by Sabine Pass LNG, L.P. (Sabine Pass). The Commission will use the EA in its decision-making process to determine whether or not to authorize the project. This notice explains the scoping process we ¹ will use to gather environmental input from the public and interested agencies on the projects. Your input will help the Commission determine the issues that need to be evaluated in the EA. Please note that the scoping period will close on December 19, 2008.

¹ ‘We,' ‘us,' and ‘our' refer to the environmental staff of the FERC's Office of Energy Projects.

Details on how to submit written comments are provided in the Public Participation section of this notice.

If you are a landowner receiving this notice, you may be contacted by a Sabine Pass representative about the proposed project facilities.

This notice is being sent to affected landowners; federal, state, and local government agencies; elected officials; environmental and public interest groups; Native American tribes; other interested parties; and local libraries and newspapers. We encourage government representatives to notify their constituents of this planned project and encourage them to comment on their areas of concern.

Summary of the Proposed Projects

The purpose of the project is to add Liquefied Natural Gas (LNG) export capabilities/functionality to the previously authorized Sabine Pass LNG Terminal Facilities located in Cameron Parish, Louisiana. Sabine Pass is seeking authorization to operate its facility for the purpose of exporting LNG. Sabine proposes to operate its existing Sabine Pass LNG Terminal facility to export LNG on a short term basis by holding cargos of imported LNG in its LNG tanks for re-export. To accomplish this, Sabine Pass would modify up to four 24-inch check valves on unloading arms A & D on the West and East Jetty Platforms in the marine portion of the Sabine Pass LNG Terminal. The general location of the proposed project is shown in the figure included as Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Sabine Pass.

The proposed modification of the check valves would allow the LNG to be transferred from the LNG storage tanks to a receiving ship. The existing in-situ in-tank pumps would be used to pump/push LNG from the tanks through the LNG transfer lines to the unloading/loading arms and then into the ship for export and transportation. Since the Sabine Pass LNG Terminal already includes all required plant components to facilitate the proposed activity other than the valve modifications, no land disturbance would be required. The valves are located on the accessible portion of the Jetty Platforms.

Total Land Requirements

Based on the preliminary information, construction of Sabine Pass Export Project facilities would not involve new land disturbance; therefore, there would be no land requirements.

The EA Process

The National Environmental Policy Act (NEPA) requires the Commission to take into account the environmental impacts that could result from an action. The FERC will use the EA to consider the environmental impact that could result if the project is authorized under section 3 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

In the EA we will discuss impacts that could occur as a result of the construction and operation of the proposed project under these general headings:

• Geology and soils;

• Land use;

• Water resources, fisheries, ballast water, and wetlands;

• Cultural resources;

• Vegetation and wildlife;

• Threatened and endangered species;

• Air quality and noise;

• Hazardous waste; and

• Public safety.

In the EA, we will also evaluate possible alternatives to the proposed project, and make recommendations on how to lessen or avoid impacts on affected resources.

The FERC staff has initiated its NEPA review and FERC encourages the early involvement of interested stakeholders and to identify issues/concerns.

Public Participation

You can make a difference by providing us with your specific comments or concerns about the proposed project. By becoming a commentor, your concerns will be addressed in the EA and considered by the Commission. Your comments should focus on the potential environmental effects, reasonable alternatives and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of OEP/DG2E, Gas Branch 2, PJ11.2.

• Reference Docket Nos. CP04-47-001 and CP05-396-001 on the original and both copies.

• Mail your comments so that they will be received in Washington, DC on or before December 22, 2008.

Please note that the Commission strongly encourages electronic filing of any comments or interventions or protests to this proceeding. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid email address. All comments submitted under either eFiling or the Quick Comment option are placed in the public record for the specified docket or project number(s).

We might mail the EA for comment. If you are interested in receiving it, please return the Information Request (Appendix 2). If you do not return the Information Request, you will be taken off the mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., CP04-47) in the “Docket Number” field. Be sure you have selected an appropriate date range. For assistance, please contact FERC Online Support at FERCOnlineSupport@ferc.gov or toll free at 1-866-208-3676, or TTY, contact (202) 502-8659. The eLibrary link on the FERC Internet website also provides access to the texts of formal documents issued by the Commission, such as orders, notices, and rule makings.

In addition, the FERC now offers a free service called “eSubscription” that allows you to keep track of all formal issuances and submittals in specific dockets. This can reduce the amount of time you spend researching proceedings by automatically providing you with notification of these filings, document summaries, and direct links to the documents. To register for this service, go to http://www.ferc.gov/esubscribenow.htm.

Kimberly D. Bose,
Secretary.

[FR Doc. E8-28292 Filed 11-26-08; 8:45 am]

BILLING CODE 6717-01-P